DEPARTMENT OF DEFENSE

Office of the Secretary

[Transmittal No. 22-61]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-61, Sensitivity of Technology, and Policy Justification.

Dated: August 5, 2024.
Aaron T. Siegel,
Alternate OSD Federal Register Liaison Officer, Department of Defense.

Transmittal No. 22-;61

Notice of Proposed Issuance of Letter of Offer

Pursuant to Section 36(b)(1)

of the Arms Export Control Act, as amended

(i) Prospective Purchaser: Government of Finland

(ii) Total Estimated Value:

Major Defense Equipment * $512 million

Other $23 million

TOTAL $535 million

Funding Source: National Funds

(iii) Description and Quantity or Quantities of Articles or Services under Consideration for Purchase:

Major Defense Equipment (MDE):

One hundred fifty (150) M30A1 Guided Multiple Launch Rocket System (GMLRS) Alternative Warhead (AW) (Steel Case), or M30A2 Guided Multiple Launch Rocket System (GMLRS) Alternative Warhead (AW) Missile Pods with Insensitive Munitions Propulsion System (IMPS), or a combination of both

Two hundred fifty (250) M31A1 GMLRS Unitary (GMLRS-U) Warhead (Steel Case), or M31A2 GMLRS-U IMPS, or a combination of both

Non-MDE:

Also included is a Quality Assurance Team (QAT); transportation services; and other related elements of program and logistics support.

(iv) Military Department: Army (FI-B-VBE)

(v) Prior Related Cases, if any: FI-B-VBB

(vi) Sales Commission, Fee, etc., Paid, Offered, or Agreed to be Paid: None

(vii) Sensitivity of Technology Contained in the Defense Article or Defense Services Proposed to be Sold: See Attached Annex

(viii) Date Report Delivered to Congress: November 2, 2022

* As defined in Section 47(6) of the Arms Export Control Act.

POLICY JUSTIFICATION

Finland—Guided Multiple Launch Rocket Systems (GMLRS)

The Government of Finland has requested to buy one hundred fifty (150) M30A1 Guided Multiple Launch Rocket System (GMLRS) Alternative Warhead (AW) (Steel Case), or M30A2 Guided Multiple Launch Rocket System (GMLRS) Alternative Warhead (AW) Missile Pods with Insensitive Munitions Propulsion System (IMPS), or a combination of both; and two hundred fifty (250) M31A1 GMLRS Unitary (GMLRS-U) Warhead (Steel Case), or M31A2 GMLRS-U IMPS, or a combination of both. Also included is a Quality Assurance Team (QAT); transportation services; and other related elements of program and logistics support. The total estimated cost is $535 million.

This proposed sale will support the foreign policy and national security of the United States by improving the security of a trusted partner, which is an important force for political stability and economic progress in Europe. It is vital to the U.S. national interest to assist Finland in developing and maintaining a strong and ready self-defense capability.

Finland intends to use these defense articles and services to increase its national stock, bolstering the land and air defense capabilities in Europe's northern flank. The increased national stock is critical to Finland's defense and deterrence due to the deteriorated security situation in Europe. Finland will have no difficulty absorbing this equipment into its armed forces.

The proposed sale of this equipment and support will not alter the basic military balance in the region.

The principal contractors will be Lockheed Martin Corp, Missile and Fire Control, Grand Prairie, TX. There are no known offset agreements in connection with this potential sale. There is a request pending for diversion of 50% of this procurement from U.S. stock. That final decision will determine which version GMLRS could potentially be procured.

Implementation of this proposed sale will not require the assignment of U.S. Government or contractor representatives to Finland.

There will be no adverse impact on U.S. defense readiness as a result of this proposed sale.

Transmittal No. 22-61

Notice of Proposed Issuance of Letter of Offer

Pursuant to Section 36(b)(1)

of the Arms Export Control Act

Annex

Item No. vii

(vii) Sensitivity of Technology:

1. The M30A2 GMLRS-Alternative Warhead (AW) is a Department of Defense Cluster Munitions Policy compliant area suppression munition. The AW carries a 200-pound fragmentation assembly filled with high explosives which, upon detonation, accelerates two layers of preformed penetrators optimized for effectiveness against large area and imprecisely located targets. The M30A2 is a material change to the M30A1 GMLRS AW, incorporating the Insensitive Munition Propulsion System (IMPS) complaint motor. The IMPS motor minimizes the probability of inadvertent initiation and severity of collateral damage when subjected to damage, enhances survivability of launch systems and reduces risk of injury to personnel. The M30A2 shares a greater than 90% commonality with the M30A1. Commonalities include the Global Positioning System/Precise Positioning Service (GPS/PPS) aided inertial guidance and control systems, fuzing mechanisms, and multi-option height of burst fuze capability. They have an identical range of 70km + and a minimum range of 15km.

2. The M31A2 GMLRS Unitary Warhead is the Army's primary munition for the M142 HIMARS and M270A1/M270A2 Multiple Launcher Rocket System (MLRS) Launchers. The M31A2 Unitary is a material change to the M31A1 Unitary incorporating the Insensitive Munition Propulsion System (IMPS) complaint motor. The IMPS motor minimizes the probability of inadvertent initiation and severity of collateral damage when subjected to damage, enhances survivability of launch systems and reduces risk of injury to personnel. The M31A2 shares the same Global Positioning System/Precise Positioning Service (GPS/PPS) aided inertial guidance and control systems, fuzing mechanisms, and multi-mode fuzing capability. They have an identical range of 70km + and a minimum range of 15km.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Finland can provide substantially the same degree of protection for the sensitive technology being released as the U.S. Government. This sale is necessary in furtherance of the U.S. foreign policy and national security objectives outlined in the Policy Justification.

6. All defense articles and services listed in this transmittal have been authorized for release and export to the Government of Finland.

[FR Doc. 2024-17596 Filed 8-7-24; 8:45 am]

BILLING CODE 6001-FR-P